DEPARTMENT OF COMMERCE

National Oceanic and Atmospheric Administration

[I.D. 083000A]

Small Takes of Marine Mammals Incidental to Specified Activities; Oil and Gas Exploration Drilling Activities in the Beaufort Sea

AGENCY: National Marine Fisheries Service (NMFS), National Oceanic and Atmospheric Administration (NOAA), Commerce.

ACTION: Notice of receipt of application and proposed authorization for a small take exemption; request for comments.

SUMMARY: NMFS has received a request from Phillips Alaska, Inc., (Phillips) for an authorization to take small numbers of marine mammals by harassment incidental to conducting exploration drilling activities, during the winter, offshore Prudhoe Bay, in the U.S. Beaufort Sea off Alaska. Under the Marine Mammal Protection Act (MMPA), NMFS is requesting comments on its proposal to authorize Phillips to incidentally take, by harassment only, small numbers of ringed and bearded seals while conducting this activity.

DATES: Comments and information must be postmarked no later than November 13, 2000. Comments will not be accepted if submitted via e-mail or the Internet.

ADDRESSES: Comments on the application should be addressed to Donna Wieting, Chief, Marine Mammal Conservation Division, Office of Protected Resources, NMFS, 1315 East-West Highway, Silver Spring, MD 20910-3225. A copy of the application and a list of references used in this document may be obtained by writing to this address or by telephoning one of the contacts listed here.

FOR FURTHER INFORMATION CONTACT: Kenneth R. Hollingshead, Office of Protected Resources, NMFS, (301) 713-2055, ext. 128, or Brad Smith, Western Alaska Field Office, NMFS, (907) 271-5006.

SUPPLEMENTARY INFORMATION:

Background

Sections 101(a)(5)(A) and (D) of the MMPA (16 U.S.C. 1361 et seq.) direct the Secretary of Commerce to allow, upon request, the incidental, but not intentional, taking of small numbers of marine mammals by U.S. citizens who engage in a specified activity (other than commercial fishing) within a specified geographical region if certain findings are made and either regulations are issued or, if the taking is limited to harassment, notice of a proposed authorization is provided to the public for review.

Permission may be granted if NMFS finds that the taking will have a negligible impact on the species or stock(s), will not have an unmitigable adverse impact on the availability of the species or stock(s) for subsistence uses, and if the permissible methods of taking and requirements pertaining to the monitoring and reporting of such taking are set forth.

On April 10, 1996 (61 FR 15884), NMFS published an interim rule establishing, among other things, procedures for issuing incidental harassment authorizations under section 101(a)(5)(D) of the MMPA for activities in Arctic waters, including requirements for peer-review of a monitoring program and a plan of cooperation between the applicant and affected subsistence users. For additional information on the procedures to be followed for this authorization, please refer to that document.

Summary of Request

On August 1, 2000, NMFS received an application from Phillips requesting a 1-year authorization for the possible harassment of small numbers of marine mammals incidental to constructing an ice road and an ice island at the McCovey Prospect Area and drilling one or more oil exploration wells at that location during the winter, 2000/2001. The drilling location at McCovey is approximately 14 mi (22.5 kilometers (km)) north of East Dock at Prudhoe Bay, 7 mi (11.3 km) northwest of Cross Island, and 12 mi (19.3 km) east of the Northstar Unit.

The purpose of the operation is to evaluate the oil and gas potential of Phillips’ operated leases in the McCovey area. The well will be drilled from an ice island constructed at the beginning of the winter drilling season. Some equipment may be staged on Reindeer Island prior to freeze-up; however, a majority of the equipment will be staged using the ice road.

Ice island construction is expected to begin when ice conditions are thick enough to allow heavy equipment to be transported to the location via ice road (approximately December, 2000). One well is planned to be drilled from a surface location in Outer Continental Shelf Lease Block Y-1577. Depending on the results found from this well, well tests may be performed and a sidetrack may be drilled as length of season permits. All drilling and well-testing operations will be performed only during the 2000-2001 winter drilling season and will be discontinued in May 2001 before ice break-up (which usually occurs in late June or July). Drilling and testing operations will not be conducted in broken ice or open water periods. The McCovey exploration well will be plugged and abandoned regardless of any commercial value demonstrated during well testing and reservoir evaluation. The exploration well is expected to be moved back down the ice road after operations are completed. This is expected to occur between about April 20 and May 2.

Prior to freeze-up in late October, 2000, materials will be barged to Reindeer Island for staging. This includes pumps, a support camp, rolligons and diesel fuel in storage tanks. The storage tanks will be in a containment capable of holding 110 percent of the capacity of the tanks. An ice pad will be constructed at Reindeer Island initially for the support camp and will be later used for the rigging camp. A 12-14 mi (19.3-22.5 km) ice road will be constructed from either West Dock or East Dock in Prudhoe Bay out to the McCovey location. The actual location and length of the ice road will depend on ice conditions prior to commencing operations. The ice road will then be used to transport the ice island construction equipment and the drilling rig out to the McCovey location.

The ice roads are expected to be completed and ready for heavy traffic by mid-February. Following construction, the road will be maintained using graders with snow wings and front-end loaders with snow blowers until ice-road travel is no longer possible, typically in mid-May.

The McCovey Ice Island will be located in 37 ft (11.2 m) of water. Pumps will be used to spray seawater into the cold air to form ice-crystals. The sprayed seawater is first used to thicken the ice at the island location to 2-3 m (6.6-9.8 ft). Then the water will be redirected to the center of the island to ground the island core. The ice island diameter is expected to be 850 ft (259.1 m) at the waterline and 600 ft (182.9 m) at the working surface above the water.

After completion of the ice road and island, a land-based drilling rig will be transported to the location. The support camp will be located on an ice pad constructed on Reindeer Island throughout the drilling operations. Reindeer Island is approximately 4.5 mi (7.2 km) from the ice island location. All drilling materials will be transported to the ice island by ice road and staged on the ice island. Muds and cuttings will be discharged to the sea ice in accordance with the General Offshore National Pollution Discharge Elimination System permit requirements.

A more detailed description of the work planned is contained in the application (Phillips, 2000) and is available upon request (see ADDRESSES).

Description of Habitat and Marine Mammals Affected by the Activity

A detailed description of the Beaufort Sea ecosystem and its associated marine mammals can be found in several documents (Corps of Engineers, 1999; Minerals Management Service (MMS), 1990, 1992, 1996; NMFS, 1997).

Marine Mammals

The Beaufort/Chukchi Seas support a diverse assemblage of marine mammals including bowhead whales (Balaena mysticetus), gray whales (Eschrichtius robustus), beluga (Delphinapterus leucas), ringed seals (Phoca hispida), spotted seals (Phoca largha) and bearded seals (Erignathus barbatus). Descriptions of the biology and distribution of these species, and others, can be found in several other documents (Small and DeMaster, 1995; Hill and DeMaster, 1998; Hill et al., 1999; NMFS, 1997). Please refer to those documents for information on the biology, distribution and abundance of these species. However, because the proposed oil exploration activity will take place only during the winter, only ringed seals, and possibly a few bearded seals, have any potential to be impacted by the project. A description of the biology and abundance of these latter species are addressed in NMFS’ Environmental Assessment (EA) on Winter Seismic Activities (NMFS, 1998). The documents mentioned here and in other parts of this document are considered part of this decision-making process.

In addition to the species mentioned in the preceding paragraph, polar bears (Urus maritimus) also have the potential to be taken incidental to the proposed activity. This species is under the jurisdiction of the U.S. Fish and Wildlife Service (USFWS). As a result, Phillips has applied for a Letter of Authorization from the USFWS for the taking of this species incidental to the McCovey drilling project.

Potential Impacts on Marine Mammals

Disturbance by noise is the principal means for potential takings by harassment by this activity. The marine mammal most likely to be impacted by construction of the ice road and ice island is the ringed seal. A slight possibility exists to impact bearded seals. While the applicant noted that there is a chance that a ringed seal could be killed during ice road construction (and ice island construction), NMFS believes that noise from road and island construction activity, the timing of the construction in December, and the monitoring described in the next section of this document, will make the injury or mortality of ringed seals very unlikely. However, the ice island location cannot be moved due to the engineering required for ice island design and construction. As a result, breathing holes or structures located within the footprint of the island will be covered by ice and the seals would need to relocate. However, constructing the island in December will mitigate the potential for damage to birthing lairs, since ringed seal ice structures are not well developed at this time of the year, pups are not born until mid-March in this area, and several structures would be available for each seal by that time for use as birthing and pupping lairs.

Site specific ringed seal survey work was conducted by Western Geophysical at the McCovey location during April, 2000 (Coltrane and Williams, 2000). A total of 22 seal structures were found in the core survey area and the surrounding 1 km (0.62 mi) monitoring zone. An additional 21 structures were found in the transit survey route. Seventeen of the structures were breathing holes, 20 were lairs, and 6 were unidentified; none of the identified lairs were birthing lairs. Coltrane and Williams (2000) reported that twenty-eight structures were revisited later. The remaining 15 structures were not rechecked as these structures were either of unknown status or frozen at the time of the initial search. Four breathing holes were found to be abandoned since the initial search (one was abandoned due to research, not industrial activity). The total abandonment rate of active seal structures after shallow hazards survey operations was 11 percent (3 of 28). In addition, the initial survey revealed that 19 percent (8 of 43) of the structures located had already been abandoned prior to any industrial searches. This natural abandonment rate was comparably higher than the abandonment rate after industrial activities in the area (19 percent compared to 11 percent).

Aerial surveys of seal density and abundance, conducted in 1997 in support of the Northstar project (which is approximately 9 miles (14.5 km) to the west from the proposed McCovey Prospect), indicated an average density over the area (including the McCovey Prospect area) of 0.43 ringed seals/km2. The overall observed density on landfast ice, over water depths of 5-20 m (16.4-65.6 ft), was 0.42 ringed seals/km2 (Miller et al., 1998). Surveys conducted in 1999 by Richardson and Williams (2000) indicated an overall observed density of 0.56 seals/km2. Excluding waters less than 3 m (9.8 ft) deep where ringed seals were rarely seen, the overall observed density was 0.63 seals/km2. The overall observed density in areas greater than 3 m (9.8 ft) deep was higher in 1999 than in either 1997 or 1998 (0.39 seals/km2).

Based on the methodology for assessing ringed seal takes by industrial activities at Northstar (see BP Exploration (Alaska), 1998), Phillips estimates that less than 31 ringed seals may be within an area where harassment takings might potentially occur. This estimate is based on the assumptions that any ringed seals within 0.4 mi (0.644 km) of the ice road and within 2.3 mi (3.7 km) of the ice island may be able to hear the noise associated with the McCovey Prospect. This estimate is based on the density recorded during the 1997 aerial survey of 0.42 seals/km2 (Miller et al. 1998). Phillips believes that this estimate of take is very conservative, since the noise associated with ice island construction should be less than the noise associated with construction of the gravel island at Northstar. The 2.3 mi (3.7 km) was based on noise measurements made by Greene (1983) for construction of Seal Island in 1982. Also, the estimated “take” is based on the entire ice road length of 12.5 miles (20.12 km) with no deduction for areas where the ice road may cross grounded ice (with no ringed seal presence). It should be recognized moreover, that NMFS does not consider a taking to have occurred simply because an animal hears a noise or has a minor startle reaction to the noise. In order for NMFS to consider a taking to have occurred, the reaction by the marine mammal needs to result in a behavioral response that may have biological significance on the part of the animal. A biologically significant behavioral response is a response that affects biologically important behavior, such as survival, breeding, feeding and migration, which have the potential to impact the reproductive success of the animal. For ringed seals, simply hearing industrial noise or hearing it and abandoning, either temporarily or permanently, one of its several breathing holes, is not considered significant. A biologically significant response, for example, would be displacement that affects mating, access to critical feeding areas, or weaned pups leaving one lair for another (which although also done naturally to avoid predation, can, in either case, affect survival).

Bearded seals are not expected to be in the area except in very small numbers and therefore should not be affected by the activity. Bearded seals are benthic feeders and the Beaufort Sea provides only limited habitat for them. In addition, their preference for open water further limits the potential for their being in this area at this time of the year.

Therefore, based on the above discussion, NMFS preliminarily concludes that the taking, by noise harassment incidental to construction of the ice road and ice island, will result in no more than a few dozen harassment takings by this activity.

Potential Effects on Subsistence Needs

NMFS has not identified any unmitigable adverse impacts by this activity on the availability of the species or stock(s) of marine mammals for subsistence needs.

Potential Effect on Habitat

The ice island will be a temporary structure on the winter ice. The temporary loss of this area is negligible when compared to the size of the nearshore Beaufort Sea. When drilling and well-testing operations are completed, the well will be plugged and abandoned in accordance with MMS and Alaska Oil and Gas Conservation Commission regulations. This abandonment will leave the project area in essentially an unmodified condition, since there will be no wellhead or other structures remaining above the ocean floor.

In the unlikely event that there is an oil spill, Phillips has prepared an oil discharge prevention and contingency plan (ODPCP) specifically for this activity. The ODPCP is an extensive document that addresses spill response, several spill scenarios, cleanup activities, and numerous other aspects of oil spill prevention and response. Oil spill response teams are located in Deadhorse, AK. Phillips and other operators have oil spill response equipment available in each current or soon-to-be oil-producing area on the North Slope.

Mitigation

Several mitigation measures to reduce the potential for marine mammal harassment will be implemented by Phillips as part of their proposed activity. These include:

(1) Conducting a winter drilling program using a land-based rig instead of using either the Concrete Island Drilling System platform, a floating platform, or a semisubmersible platform. The latter two platforms would require the need for icebreaker vessels; and

(2) Conducting drilling operations during winter months instead of during the open water season, and

(3) Constructing the ice road and ice island in December before seal structures are made into fully-developed lairs, and especially before constructing of the birth lair in March.

Marine Mammal Monitoring

Phillips proposes to utilize trained dogs or visual observations to assess the level of take of ringed seals during project activities. Prior to commencing ice road or ice island construction, trained dogs would be used to locate seal breathing holes and lairs along the proposed footprint of the ice road route and ice island pad. An adjacent 50-m (164 ft) buffer along the ice road route and a 1 km (0.62 mi) buffer around the ice island will also be surveyed. In the event that trained dogs are not available for the survey due to scheduling, Phillips proposes to employ a visual survey prior to onset of construction activities. The visual survey would involve searching the designated area for breathing holes, and examining pressure ridges, ice hummocks, and deep ice cracks for lairs. Attempts will be made to confirm the presence of lairs by using an aluminum rod to locate the breathing hole or lair access hole where practical. Success in visually locating lairs will be limited by the relatively low density of ringed seals combined with the difficulty of finding breathing holes or lairs on snow-covered ice during winter conditions. A professional marine mammal biologist and an Inupiat hunter would be conducting the visual survey.

Once drilling begins, a designated polar bear watch (typically an Inupiat hunter) will also look for and record seal activities. Because of the low expectation of interactions during the winter with marine mammals that are under the jurisdiction of NMFS, dedicated observers are not considered necessary on the ice island. As a result, NMFS proposes to require as part of the Authorization that Phillips instruct the polar bear watchperson to maintain a sightings-and-behavior log for seals that is separate from the Polar Bear Sightings Log. This latter reporting requirement is mandated by 50 CFR 18.27.

In order to obtain an indication of ringed seal response to Phillips’ operations, a second seal structure survey will be conducted near the end of the McCovey project activities. The second survey will be conducted by biologists on snow machines using Differential Global Positioning System units to relocate and determine presence/absence of seals in lairs identified during the first survey. Any new holes would also be noted.

NMFS notes however, that current regulations for winter ice road construction for both Northstar (see 65 FR 34014, May 25, 2000) and on-ice vibroseis surveys (see 63 FR 5277, February 2, 1998), require ice roads to be surveyed a distance of 150 m (492 ft) from either side of the disturbed ice. Preliminarily, it is NMFS’ intention to require similar monitoring for this project’s ice road construction. In addition, NMFS proposes to require that all ice roads constructed in the Beaufort Sea be monitored by trained dogs until such time as NMFS has clear evidence that ice roads and other activities taking place during the winter are not having a cumulative impact on ringed seals or until peer-reviewed research has shown that human monitoring for ringed seal structures without dogs is as effective as using dogs. As such, trained dogs are required to be used for surveying for ringed seal structures, using that information to mitigate the impact to the greatest extent practicable, and to follow up those surveys at an appropriate time during or after the season to indicate the fate of those structures. NMFS proposes that a condition of the Incidental Harassment Authorization (IHA) be that if NMFS determines dogs are not available, then, and only then, would the human monitoring be authorized. Failure to use dogs when available would be considered a violation of the IHA and may result in suspension or termination of that IHA.

Reporting

NMFS proposes to require Phillips to submit one report under this proposed authorization. This report will be required 90 days after completion of activities authorized for marine mammal takings.

National Environmental Policy Act

The activity proposed by Phillips was the subject of a Final Environmental Impact Statement prepared by MMS in conjunction with Lease Sale 124 (MMS, 1990). In addition, in 1997 NMFS prepared and released an EA that addressed the impacts on the human environment from issuance of an authorization for taking marine mammals incidental to conducting oil exploration activities during winter and the alternatives to the proposed action. A Finding of No Significant Impact was signed on September 25, 1997.

Conclusions

NMFS has preliminarily determined that the short-term impact of exploration drilling and related activities in the Beaufort Sea will result, at worst, in a temporary modification in behavior by certain species of pinnipeds. While behavioral modifications may be made by these species of marine mammals to avoid the resultant noise from ice road and ice island construction, transporting the oil rig and supplies on the ice road, or due to drilling activities, this behavioral change is expected to have a negligible impact on the animals.

While the number of potential incidental harassment takes will depend on the distribution and abundance of marine mammals (which vary annually due to variable ice conditions and other factors) in the activity area, the number of potential harassment takings is estimated to be small. In addition, no take by injury and/or death is anticipated and takes will be at the lowest level practicable due to incorporation of the mitigation measures mentioned previously. No known rookeries, mating grounds, areas of concentrated feeding, or other areas of special significance for marine mammals occur within or near the planned area of operations during the season of operations.

Proposed Authorization

NMFS proposes to issue an IHA to Phillips for the possible harassment of small numbers of ringed seals and bearded seals incidental to constructing an ice road and ice island and drilling an oil exploration well at the McCovey Prospect during the winter 2000/01, provided the previously mentioned mitigation, monitoring and reporting requirements are carried out. NMFS has preliminarily determined that the proposed activities would result in the harassment of only small numbers of ringed and bearded seals, will have a negligible impact on these marine mammal stocks; and will not have an unmitigable adverse impact on the availability of these stocks for subsistence uses.

Information Solicited

NMFS requests interested persons to submit comments, information, and suggestions concerning this request (see ADDRESSES).

Dated: October 4, 2000.
Art Jeffers,
Deputy Director, Office of Protected Resources, National Marine Fisheries Service.

[FR Doc. 00-26087 Filed 10-10-00; 8:45 am]

BILLING CODE: 3510-22 -S